DEPARTMENT OF AGRICULTURE

Animal and Plant Health Inspection Service

DEPARTMENT OF COMMERCE

National Oceanic and Atmospheric Administration

DEPARTMENT OF THE INTERIOR

Fish and Wildlife Service

[Docket No. APHIS-2008-0096]

National Aquatic Animal Health Plan for the United States; Notice of Availability

AGENCY: Animal and Plant Health Inspection Service, USDA; National Marine Fisheries Service, National Oceanic and Atmospheric Administration, DOC; and Fish and Wildlife Service, DOI.

ACTION: Notice of availability and request for comments.

SUMMARY: We are advising the public that a National Aquatic Animal Health Plan (NAAHP) for the United States is being made available for public review and comment. The NAAHP was developed by a Task Force led by the Animal and Plant Health Inspection Service (APHIS) of the U.S. Department Agriculture, the Fish and Wildlife Service (FWS) of the U.S. Department of the Interior, and the National Marine Fisheries Service (NMFS) of the National Oceanic and Atmospheric Administration of the U.S. Department of Commerce. It is anticipated that this plan will provide a framework for how APHIS, FWS, and NMFS should develop programs for diseases that affect the health of aquatic animals such as finfish, crustaceans, and mollusks.

DATES: APHIS, FWS, and NMFS will consider all comments received on or before October 20, 2009.

ADDRESSES: You may submit comments by either of the following methods:

• Federal eRulemaking Portal: Go to http://www.regulations.gov/fdmspublic/component/main?main=DocketDetail&d=APHIS-2008-0096 to submit or view comments and to view supporting and related materials available electronically. All comments received are a part of the public record and will generally be posted to http://www.regulations.gov without change. All personal identifying information (for example, name, address, etc.) voluntarily submitted by the commenter may be publicly accessible. Do not submit confidential business information or otherwise sensitive or protected information. The agency will accept anonymous comments (enter “N/A” in the required fields, if you wish to remain anonymous). You may submit attachments to electronic comments in Microsoft Word, Excel, WordPerfect, or Adobe PDF file formats only.

• Postal Mail/Commercial Delivery: Please send two copies of your comment to Docket No. APHIS-2008-0096, Regulatory Analysis and Development, PPD, APHIS, Station 3A-03.8, 4700 River Road, Unit 118, Riverdale, MD 20737-1238. Please state that your comment refers to Docket No. APHIS 2008-0096.

Reading Room: You may read any comments that we receive on the National Aquatic Animal Health Plan in the APHIS reading room. The reading room is located in Room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov. Additional information about FWS is available on the Internet at http://www.fws.gov. Additional information about the NOAA Aquaculture Program is available on the Internet at http://aquaculture.noaa.gov.

FOR FURTHER INFORMATION CONTACT:

APHIS: Dr. P. Gary Egrie, Veterinary Medical Officer, Aquaculture, Swine, Equine, and Poultry Health Programs, VS, APHIS, 4700 River Road, Unit 46, Riverdale, MD 20737-1231; (301) 734-0695.

NMFS: Mr. Kevin Amos, National Aquatic Animal Health Coordinator, NOAA Aquaculture Program, 1315 East-West Hwy., SSMC#3 Rm. 13137, Silver Spring, MD 20910; (360) 709-9001.

FWS: Ray Brunson, Project Leader, FWS, Olympia Fish Health Center, 3859 Martin Way E, Suite 101, Olympia, WA 98506; 360-753-9046.

SUPPLEMENTARY INFORMATION:

Background

Aquaculture, which includes the managed production of aquatic animals, is practiced throughout the United States and its territories by private, public, and tribal entities. Aquaculture continues to grow as a major agribusiness enterprise. The production of aquatic animals is a critical economic and environmental activity that provides a source of healthy food, employment, recreation, and supplementation of wild fishery stocks for harvest by commercial and tribal harvesters, as well as protection and restoration of aquatic animals that face extinction.

Disease has the potential to pose a great threat to the success of aquaculture. Developing and implementing a national aquatic animal health plan has become urgent for two reasons: The growing need to protect our domestic commerce and resources, and the advent of new health regulations by foreign governments that restrict the importation of live and processed aquatic animals from the United States.

In recent years, outbreaks of infectious salmon anemia and spring viremia of carp in private U.S. aquaculture operations resulted in losses of over $10 million. Also recently, a new strain of viral hemorrhagic septicemia has affected several wild populations of fish in the Great Lakes region of the United States. If the United States maintains a limited and disparate supporting infrastructure to diagnose, report, educate, manage, and develop surveillance and control programs, the presence of these or the discovery of other aquatic animal pathogens in this country could lead to restriction or elimination of international commerce in some aquatic animals for the United States.

The National Aquatic Animal Health Plan (NAAHP)

In 2001, the Joint Subcommittee on Aquaculture (JSA), under the auspices of the Executive Office of the President, Office of Science and Technology Policy, commissioned a national task force to develop a national health plan for aquatic animals. Three Federal Departments with primary responsibility for aquatic animal health are leading the task force—the U.S. Department of Agriculture (USDA), the U.S. Department of Commerce (Commerce), and the U.S. Department of the Interior (DOI). USDA's Animal and Plant Health Inspection Service (APHIS) protects the health of U.S. agriculture, thereby improving agricultural productivity and competiveness and contributing to the national economy and public health. Commerce's National Marine Fisheries Service (NMFS) is dedicated to the stewardship of living marine resources through science-based conservation and management, and the promotion of healthy ecosystems. DOI's Fish and Wildlife Service (FWS) works with others to conserve, protect, and enhance fish, wildlife, and plants, and their habitats for the continuing benefit of the American people. The FWS' Aquatic Animal Health Program strives to conserve our nation's fisheries and aquatic resources.

Once the JSA commissioned the task force to develop the NAAHP, the task force recognized that the first outreach activity would be to bring together all interested parties, inform them of the intent to develop a plan, and request their recommendations regarding content. The recommendations from stakeholders shaped the mission and the objectives for the NAAHP, which was again vetted by interested parties and reviewed by the JSA itself. The mission of the NAAHP is to:

• Facilitate the legal movement of all aquatic animals, their eggs, and their products in interstate and international commerce;

• Protect the health and thereby improve the quality and productivity of farmed and wild aquatic animals;

• Ensure the availability of diagnostic, inspection, and certification services; and

• Minimize the impacts of diseases when they occur in farmed or wild aquatic animals.

Following approval of the mission of the NAAHP by the JSA, the task force began soliciting information for the contents of the chapters. Technical group meetings were held, at which information was solicited from industry, State, tribal, Federal and academic partners. A total of 12 group meetings were held between January 2003 and November 2006. Many of the technical groups focused on species-specific disease issues with regard to surveillance and disease management. The task force's technical team used information from these groups and from other meetings to draft the NAAHP's chapters.

The goal of the NAAHP is to provide recommendations to industry, States, tribes, Federal agencies, and other stakeholders to meet the mission of the Plan. These recommendations are not necessarily in support of an overarching regulatory program to be implemented by the Federal Government. Rather, the recommendations relate to activities for consideration by all stakeholders to meet the mission of the Plan.

Four principles have been used by the task force to develop the NAAHP. They are:

• Construct the Plan using established scientific principles of fish health management;

• Develop the Plan in an open and visible process in which stakeholders have opportunities to provide information;

• Recognize that limited resources are available; therefore the plan must be affordable, make sense to stakeholders, and be capable of implementation; and

• Develop standards that are consistent with World Trade Organization and World Organization for Animal Health (OIE) guidelines and, to the extent possible, are consistent with Federal, State, and tribal regulations already in existence in the United States.

Recommendations and Implementation

While the NAAHP is not a regulation, it provides general principles and guidelines for how the U.S. Federal Agencies with jurisdiction over aquatic animal health (APHIS, NMFS, and FWS) should take action to protect our farmed and wild resources, facilitate safe commerce, and make available laboratory testing, training, and other programs as needed to implement the NAAHP. The key recommendations made by the task force are related to the following areas:

• Prevention of the introduction or spread of program aquatic animal pathogens (PAAPs);

• Response to PAAPs and reportable aquatic animal pathogens (RAAPs);

• Health certification;

• Surveillance schemes for PAAPs and RAAPs;

• Laboratories, standardized testing, quality testing, and approved personnel; and

• Education and training.

In addition to the recommendation areas listed, activities addressed in the NAAHP include the following: Definition of pathogens of national concern; creation and implementation of disease management zones; identification of priority areas for research and development in aquatic animal health, including identification of existing funding structures and recommendations for leveraging resources; description of strategies for continued outreach and awareness regarding national aquatic animal health strategies and the NAAHP; and implementation of the NAAHP.

Due to limited resources, the NAAHP must be developed based on the priorities and recommendations identified within the Plan, and implementation of these priorities will be contingent upon funding. However, continued stakeholder consultation is necessary to ensure that the priorities and recommendations in the Plan are updated if necessary. Therefore, the establishment of a National Advisory Committee for Aquatic Animal Health is of utmost importance to a successful NAAHP.

Such a committee could be established as a permanent advisory committee—chartered under the Federal Advisory Committee Act (FACA)—to the Federal agencies responsible for implementing programs related to the NAAHP. Alternatively, it could be created as a subcommittee of a currently established FACA committee, such as the Secretary's Advisory Committee on Foreign Animal and Poultry Diseases within the USDA. In either case, the Advisory Committee structure can provide information to agencies regarding issues of importance and, in an environment of fiscal conservation, assist the Federal agencies in allocating resources for aquatic animal health issues appropriately. Such an advisory committee should be large enough to ensure broad stakeholder representation, but small enough to ensure its effectiveness.

The next step is for the Federal agencies to take the recommendations and suggested actions in the Plan and make them into policies, guidelines, and if appropriate, regulations. As with the development of the NAAHP, implementation must be a collaborative process that includes information from States, tribes, industry, and other stakeholders, and the timeframe for certain activities may be influenced by available funding.

Accessing and Commenting on the NAAHP

We are making the NAAHP dated October 2008 available to the public for review and comment. We will consider all comments that we receive on or before the date listed under the heading DATES at the beginning of this notice.

The NAAHP may be viewed on the Federal eRulemaking Web site (see ADDRESSES above for instructions for accessing Regulations.gov). You may request paper copies of the draft document by contacting the persons listed under FOR FURTHER INFORMATION CONTACT. Please refer to the title of the draft document when requesting copies. The NAAHP may also be viewed at APHIS' Web site at http://www.aphis.usda.gov/animal_health/animal_dis_spec/aquaculture/, at FWS' Web site at http://www.fws.gov/fisheries/, or at NOAA's aquaculture Web site at http://aquaculture.noaa.gov. The NAAHP is also available for review in the APHIS reading room. (Information on the location and hours of the APHIS reading room is listed under the heading ADDRESSES at the beginning of this notice.)

Dated: August 11, 2009.
Kevin Shea,
Acting Administrator, Animal and Plant Health Inspection Service.
Daniel M. Ashe,
Director, U.S. Fish and Wildlife Service.
Dated: August 11, 2009.
Samuel D. Rauch III,
Deputy Assistant Administrator for Regulatory Programs, National Marine Fisheries Service.

[FR Doc. E9-19702 Filed 8-20-09; 8:45 am]

BILLING CODE 3410-34-P